DEPARTMENT OF HOMELAND SECURITY

Coast Guard

33 CFR Part 117

[Docket No. USCG-2018-0955]

RIN 1625-AA09

Drawbridge Operation Regulations; Belle River, LA

AGENCY: Coast Guard, DHS.

ACTION: Notice of temporary deviation from regulations; request for comments.

SUMMARY: The Coast Guard is issuing a temporary deviation to the operating schedule that regulates the State Route 70 (SR 70), pontoon bridge across the Belle River mile 23.8, near Pierre Part, Assumption Parish, Louisiana. This temporary deviation is needed to collect and analyze information on vehicle traffic congestion on SR 70 created when the drawbridge opens to vessel traffic and the impact to the reasonable needs of navigation when the bridge closes to vessels during periods of high vehicle traffic. During this temporary deviation the drawbridge will remain closed to navigation.

DATES: This deviation is effective from 6 a.m. on May 17, 2019 to 6 a.m. on August 30, 2019. Comments and related material must be received by the Coast Guard on or before September 23, 2019.

ADDRESSES: You may submit comments identified by docket number USCG-2018-0955 using Federal eRulemaking Portal at http://www.regulations.gov. See the “Public Participation and Request for Comments” portion of the SUPPLEMENTARY INFORMATION section for further instructions on submitting comments.

FOR FURTHER INFORMATION CONTACT: If you have questions about this rulemaking, call or email Mr. Doug Blakemore, Eighth Coast Guard District Bridge Administrator; telephone (504) 671-2128, email Douglas.A.Blakemore@uscg.mil.

SUPPLEMENTARY INFORMATION:

I. Table of Abbreviations

CFR Code of Federal Regulations

DHS Department of Homeland Security

FR Federal Register

LA DOTD Louisiana Department of Transportation and Development

SR State Route

§ Section

U.S.C. United States Code

II. Background, Purpose and Legal Basis

LA DOTD has requested to change the operating requirements for the SR 70 pontoon bridge across the Belle River mile 23.8, near Pierre Part, Assumption Parish, Louisiana. This bridge currently opens on signal, except that from 10 p.m. to 6 a.m. the draw shall open on signal if at least four hour notice is given according to 33 CFR 117.424.

LA DOTD requested changing this bridge operating schedule because vehicle traffic has become congested during June, July, and August. This waterway is heavily used by recreational vessels during the summer months.

LA DOTD conducted a field study that showed that about 80 cars were delayed approximately 15 minutes each time the bridge opened to vessel traffic and that the bridge sometimes opened as many as 4 times per hour. To alleviate this congestion LA DOTD has requested to open the bridge to vessel traffic on the hour from 6 a.m. to 10 p.m. each day.

This 105-day temporary deviation to the regulations will allow LA DOTD to collect additional vehicle traffic data to measure the impact of bridge closures on traffic congestion. It will also allow the Coast Guard to collect data on the impact of the proposed regulation change on vessels.

This bridge has a vertical clearance of zero feet in the closed to vessel traffic position and unlimited vertical clearance in the open to vessel traffic position. In June, July, and August 2017 the bridge opened for vessels 374 times. During this temporary deviation the bridge will operate as follows:

From 6 a.m. on June 1, 2019 through 6 p.m. on August 31, 2019 the draw of the SR 70 pontoon bridge across the Belle River mile 23.8, near Pierre Part, Assumption Parish, Louisiana shall open on signal on the hour from 6 a.m. to 10 p.m.; and that from 10 p.m. to 6 a.m. the draw shall open on signal if at least four hour notice is given. The bridge will open on signal for emergencies.

The Coast Guard will inform the users of this waterway through Local and Broadcast Notice to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

III. Public Participation and Request for Comments

Public participation is essential to effective rulemaking. The Coast Guard will consider all comments and material received during the comment period. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this temporary rule change, and all public comments, are in our online docket at http://www.regulations.gov and can be viewed by following that website's instructions. Additionally, if you go to the online docket and sign up for email alerts, you will be notified when comments are posted or a final rule is published.

Dated: April 10, 2019.
Douglas A. Blakemore,
Bridge Administrator, Eighth Coast Guard District.

[FR Doc. 2019-07519 Filed 4-15-19; 8:45 am]

BILLING CODE 9110-04-P